DEPARTMENT OF ENERGY

10 CFR Part 430

[Docket No. EERE-2011-BT-STD-0043]

Miscellaneous Refrigeration Products Working Group: Open Teleconference Call

AGENCY: Office of Energy Efficiency and Renewable Energy, Department of Energy.

ACTION: Notification of open teleconference call.

SUMMARY: This document announces a public conference call for the Miscellaneous Refrigeration Products Working Group (MREF Working Group). The Federal Advisory Committee Act requires that agencies publish notice of an advisory committee meeting in the Federal Register.

DATES: The teleconference will be held on Tuesday, October 13, 2015 at 10 a.m. until 1 p.m. (This notification is being published less than 15 days prior to the meeting date due to logistical issues that had to be resolved prior to the meeting date.)

ADDRESSES: Call in information is posted on the Miscellaneous Refrigeration Products Web site https://www1.eere.energy.gov/buildings/appliance_standards/product.aspx?productid=86.

FOR FURTHER INFORMATION CONTACT: John Cymbalsky, ASRAC Designated Federal Officer, U.S. Department of Energy (DOE), Office of Energy Efficiency and Renewable Energy, 950 L'Enfant Plaza SW., Washington, DC 20024. Email: asrac@ee.doe.gov.

SUPPLEMENTARY INFORMATION:

Members of the public are welcome to observe the business of the meeting and, if time allows, may make oral statements during the specified period for public comment.

Docket: The docket is available for review at www.regulations.gov, including Federal Register notices, public meeting attendee lists and transcripts, comments, and other supporting documents/materials. All documents in the docket are listed in the www.regulations.gov index. However, not all documents listed in the index may be publicly available, such as information that is exempt from public disclosure.

Issued in Washington, DC, on October 2, 2015.
Kathleen B. Hogan,
Deputy Assistant Secretary for Energy Efficiency, Energy Efficiency and Renewable Energy.

[FR Doc. 2015-25777 Filed 10-8-15; 8:45 am]

BILLING CODE 6450-01-P